DEPARTMENT OF COMMERCE

International Trade Administration

[A-570-117]

Wood Mouldings and Millwork Products From the People's Republic of China: Preliminary Results and Rescission, in Part, of Antidumping Duty Administrative Review; 2023-2024

AGENCY: Enforcement and Compliance, International Trade Administration, Department of Commerce.

SUMMARY: The U.S. Department of Commerce (Commerce) preliminarily determines that exporters subject to this review made sales of subject merchandise at less than normal value during the period of review (POR), February 1, 2023, through January 31, 2024. Further, Commerce is also rescinding this review with respect to 20 of the 38 companies/company groupings under review. Interested parties are invited to comment on these preliminary results of review.

DATES: Applicable June 16, 2025.

FOR FURTHER INFORMATION CONTACT: Brian Smith or Hannah Lee, AD/CVD Operations, Office VIII, Enforcement and Compliance, International Trade Administration, U.S. Department of Commerce, 1401 Constitution Avenue NW, Washington, DC 20230; telephone: (202) 482-1766 or (202) 482-1216, respectively.

SUPPLEMENTARY INFORMATION:

Background

On February 2, 2024, Commerce published in the Federal Register a notice of opportunity to request an administrative review of the antidumping duty order on wood mouldings and millwork products (millwork products) from China.¹ After receiving multiple review requests,² Commerce initiated this review.³ In May 2024, various companies/company groupings submitted no shipment certifications.⁴ Also in May 2024, various companies filed separate rate applications or certifications, along with responses to Commerce's quantity and value questionnaire. In June and July 2024, interested parties timely withdrew review requests of four companies for which no other party requested review.⁵

¹ See Antidumping or Countervailing Duty Order, Finding, or Suspended Investigation; Opportunity to Request Administrative Review and Join Annual Inquiry Service List, 89 FR 7366, 7367 (February 2, 2024).

² See the Petitioner's Letter, “Request for Administrative Review,” dated February 29, 2024; see also Yinfeng's Letter, “Request for Administrative Review,” dated February 29, 2024; Bel Trade Wood Industrial Co., Ltd Youxi Fujian et al.'s Letter, “Request for Administrative Review,” dated February 29, 2024; Jeld-Wen. Inc.'s Letter, “Request for Administrative Review,” dated February 29, 2024; Composite Technology International Limited's Letter, “Request for Administrative Review,” dated February 29,2024;) Perfect Window Fashions Co., Ltd. (Perfect Window's) Letter, “Request for Administrative Review,” dated February 29, 2024; Foutiou Frames Limited's Letter, “Request for Administrative Review,” dated February 28, 2024; and Zhangzhou Wangjiamei Industry & Trade Co., Ltd.'s Letter, “Request for Administrative Review,” dated February 27, 2024.

³ See Initiation of Antidumping and Countervailing Duty Administrative Reviews, 89 FR 24780 (April 9, 2024) (Initiation Notice).

⁴ See Jim Fine Wooden Products Co., Ltd. (Jim Fine's) Letter, “Submission of Jim Fine's No Shipment Certification,” dated May 6; see also Jiangsu Wenfeng Wood Co., Ltd.'s (Jiangsu Wenfeng's) Letter, “Separate Rate Certification and No Shipment Certification”, dated May 7, 2024; Baixing's Letter, “No Sales Certification & Separate Rate Certification,” dated May 9, 2024; and); Fujian Zhangping Kimura Forestry Products Co., Ltd.'s (Zhangping Kimura's) Letter, “No Sales Certification & Separate Rate Certification,” dated May 9, 2024.

⁵ See Petitioner's Letter, “Partial Withdrawal of Request for Administrative Review,” dated July 8, 2024; see also Letters, “Withdrawal of Request for Administrative Review”, dated June 25, 2024 and July 8, 202{4}.

On July 22, 2024, Commerce tolled certain deadlines in this administrative proceeding by seven days.⁶ On November 5, 2024, Commerce extended the deadline for issuing the preliminary results of this review until March 7, 2025.⁷ On December 9, 2024, Commerce tolled certain deadlines in this administrative proceeding by an additional 90 days.⁸ The deadline for the preliminary results of this review is now June 5, 2025.

⁶ See Memorandum, “Tolling of Deadlines for Antidumping and Countervailing Duty Proceedings,” dated July 22, 2024.

⁷ See Memorandum, “Extension of Deadline for Preliminary Results of Antidumping Duty Administrative Review,” dated November 5, 2024.

⁸ See Memorandum, “Tolling of Deadlines for Antidumping and Countervailing Duty Proceedings,” dated December 9, 2024.

Scope of the Order

The product covered by the Order is wood mouldings and millwork products. For a complete description of the scope of the Order, see the Preliminary Decision Memorandum.

Partial Rescission of Administrative Review

Pursuant to 19 CFR 351.213(d)(1), Commerce will rescind an administrative review, in whole or in part, if a party that requested a review withdraws its request within 90 days of the date of publication of the notice of initiation of the requested review in the Federal Register. Interested parties timely withdrew all review requests for four companies for which Commerce initiated this review. Therefore, in accordance with 19 CFR 351.213(d)(1), Commerce is rescinding this review of the Order with respect to all the companies listed in Appendix III.

Pursuant to 19 CFR 351.212(a), “{g}enerally, the amount of duties to be assessed is determined in a review of the order covering a discrete period of time.” Thus, normally, upon completion of an administrative review, suspended entries of subject merchandise are liquidated at the antidumping duty assessment rate calculated for the review period.⁹ Therefore, in order to apply the final antidumping duty liability that was determined in an administrative review for a particular company, there must be at least one suspended entry of that company's subject merchandise that Commerce can instruct U.S. Customs and Border Protection (CBP) to liquidate at the antidumping duty assessment rate calculated for the review period. Pursuant to 19 CFR 351.213(d)(3), Commerce may rescind an administrative review if it concludes that, during the period covered by the review, there were no entries, exports, or sales of the subject merchandise, as the case may be.¹⁰

⁹ See 19 CFR 351.212(b)(1).

¹⁰ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

Because the entry data that we obtained from CBP showed no suspended entries of subject merchandise from the 20 companies identified in Appendix IV, on October 1, 2024, we notified parties of our intent to rescind this administrative review with respect to those companies.¹¹ No one commented on our intent to rescind this review with respect to these companies. Therefore, in the absence of any suspended entries of subject merchandise during the POR from the companies listed in Appendix IV, we are rescinding this administrative review with respect to these companies, in accordance with 19 CFR 351.213(d)(3).

¹¹ See Memorandum, “Notice of Intent to Rescind Review, In Part,” dated October 1, 2024.

Methodology

Commerce is conducting this review in accordance with section 751(a)(1)(B) of the Tariff Act of 1930, as amended (the Act). Because China is a non-market economy (NME) country within the meaning of section 771(18) of the Tariff Act of 1930, as amended (the Act), we calculated normal value in accordance with section 773(c) of the Act. For a full description of the methodology underlying our preliminary results, see the Preliminary Decision Memorandum.

Separate Rates

In the Initiation Notice, we informed parties that all firms for which an NME review was initiated that wished to qualify for separate rate status must complete, as appropriate, either a separate rate application or a separate rate certification.¹²

¹² See Initiation Notice, 89 FR at 24781.

We preliminarily determine that both mandatory respondents, Longquan Jiefeng Trade Co., Ltd. (Longquan Jiefeng) and Zhejiang Senya Board Industry Co., Ltd. (Senya Board) (collectively, Longquan Jiefeng/Senya Board) ¹³ and Fujian Yinfeng Imp & Exp Trading Co., Ltd. (Yinfeng)/Fujian Province Youxi City Mangrove Wood Machining Co., Ltd. (Mangrove) (collectively, Yinfeng/Mangrove), as well as 12 other companies have demonstrated separate rate eligibility.¹⁴

¹³ We have determined that it is appropriate to treat affiliates Longquan Jiefeng and Senya Board as a single entity for purposes of this administrative review. For further discussion, see Preliminary Decision Memorandum.

¹⁴ See Appendix II.

China-Wide Entity

Commerce's policy regarding conditional review of the China-wide entity applies to this administrative review.¹⁵ Under this policy, the China-wide entity will not be under review unless a party specifically requests, or Commerce self-initiates, a review of the entity. Because no party requested a review of the China-wide entity, the entity is not under review and the weighted average dumping margin assigned to the China-wide entity is not subject to change as a result of this administrative review.

¹⁵ See Antidumping Proceedings: Announcement of Change in Department Practice for Respondent Selection in Antidumping Duty Proceedings and Conditional Review of the Nonmarket Economy Entity in NME Antidumping Duty Proceedings, 78 FR 65963 (November 4, 2013).

Preliminary Results of Review

Commerce preliminarily determines that the following estimated weighted-average dumping margins exist for the POR:

¹⁶ See Appendix II.

Exporter | Estimated weighted- average dumping margin (percent)
Longquan Jiefeng Trade Co., Ltd./Zhejiang Senya Board Industry Co., Ltd | 140.79
Fujian Yinfeng Imp & Exp Trading Co., Ltd./Fujian Province Youxi City Mangrove Wood Machining Co., Ltd | 101.70
Non-Selected Companies Under Review Receiving a Separate Rate ¹⁶ | 109.42

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁷ Rebuttal briefs, limited to issues raised in the case briefs, may be filed not later than five days after the date for filing case briefs.¹⁸ Interested parties who submit case briefs or rebuttal briefs in this review must submit: (1) a table of contents listing each issue; and (2) a table of authorities.¹⁹

¹⁷ See 19 CFR 351.309(c)(1)(ii).

¹⁸ See 19 CFR 351.309(d); see also Administrative Protective Order, Service, and Other Procedures in Antidumping and Countervailing Duty Proceedings, 88 FR 67069, 67077 (September 29, 2023) (APO and Service Final Rule).

¹⁹ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Final Rule.

Pursuant to 19 CFR 351.310(c), interested parties who wish to request a hearing must submit a written request to the Assistant Secretary for Enforcement and Compliance, filed electronically via ACCESS. Requests should contain: (1) the requesting party's name, address, and telephone number; (2) the number of individuals associated with the requesting party that will attend the hearing and whether any of those individuals is a foreign national; and (3) a list of the issues the party intends to discuss at the hearing. Issues raised in the hearing will be limited to those raised in the respective case briefs. If a request for a hearing is made, Commerce intends to hold the hearing at a date and time to be determined. An electronically filed hearing request must be received successfully in its entirety by Commerce's electronic records system, ACCESS, by 5 p.m. Eastern Time within 30 days after the date of publication of this notice in the Federal Register.

Assessment Rate

Commerce will determine, and CBP shall assess, antidumping duties on all appropriate entries of subject merchandise covered by this review.²² We will instruct CBP to liquidate POR entries of subject merchandise exported by the companies for which we rescinded the review at the cash deposit rate required at the time of entry or withdrawal from warehouse, for consumption, in accordance with 19 CFR 351.212(c)(l)(i). We will issue this instruction to CBP no earlier than 35 days after the date of publication of this notice in the Federal Register.

²² See 19 CFR 351.212(b)(1).

If a timely summons is filed at the U.S. Court of International Trade, the assessment instructions will direct CBP not to liquidate relevant entries until the time for parties to file a request for statutory injunction has expired (i.e., within 90 days of publication).

Cash Deposit Requirements

The following cash deposit requirements for estimated antidumping duties will be effective for all shipments of subject merchandise entered, or withdrawn from warehouse, for consumption on or after the date of publication of the notice of the final results of this administrative review in the Federal Register as provided by section 751(a)(2)(C) of the Act: (1) for any previously investigated or reviewed China or non-China exporter that has a separate rate, the cash deposit rate will continue to be the exporter's existing cash deposit rate; (2) for all China exporters of subject merchandise that do not have a separate rate, including those exporters that failed to establish their separate rate eligibility in this review, the cash deposit rate will be equal to the dumping margin assigned to the China-wide entity, which is 220.87 percent; and (3) for all non-China exporters of subject merchandise that do not have a separate rate, the cash deposit rate will be equal to the dumping margin applicable to the China exporter(s) that supplied that non-China exporter. These cash deposit requirements, when imposed, shall remain in effect until further notice.

Final Results of Review

Unless otherwise extended, Commerce intends to issue the final results of this administrative review, which will include the results of its analysis of issues raised in case and rebuttal briefs, within 120 days of publication of these preliminary results of review in the Federal Register, pursuant to section 751(a)(3)(A) of the Act.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results of review in accordance with sections 751(a)(1) and 777(i)(1) of the Act, and 19 CFR 351.213(h)(2) and 351.221(b)(4).

Dated: June 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Single Entity Determinations

V. Discussion of the Methodology

VI. Recommendation

Appendix II

Non-Selected Companies Under Review Receiving a Separate Rate

1. Anji Huaxin Bamboo & Wood Products Co., Ltd.

2. Bel Trade Wood Industrial Co., Ltd. Youxi Fujian

3. Composite Technology International Limited

4. Fotiou Frames Limited

5. Fujian Hongjia Craft Products Co., Ltd.

6. Fujian Jinquan Trade Co., Ltd./Fujian Province Youxi County Baiyuan Wood Machining Co., Ltd.

7. Nanping Huatai Wood & Bamboo Co., Ltd.

8. Sanming Lintong Trading Co., Ltd.

9. Shaxian Hengtong Wood Industry Co., Ltd.

10. Sun Valley Shado Co., Ltd.

11. Tim Feng Manufacturing Co., Ltd.

12. Zhangzhou Wanjiamei Industry & Trade. Co., Ltd.

Appendix III

Companies Rescinded From Review for Which All Review Requests Were Withdrawn

1. Gaomi Hongtai Home Furniture Co., Ltd.

2. Fujian Shunchang Shengsheng Wood Industry Limited

3. Huaan Longda Wood Industry Co., Ltd.

4. Nanjing Hualianxing Electronics Co., Ltd.

Appendix IV

Companies Rescinded From Review Which Have No Reviewable Entries

1. Baixing Import and Export Trading Co., Ltd Youxi Fujian

2. Fujian Sanming City Donglai Wood Co., Ltd.

3. Fujian Shunchang Shengsheng Wood Industry Limited Company

4. Fujian Youxi Best Arts & Crafts Co. Ltd.

5. Fujian Zhangping Kimura Forestry Products Co., Ltd.

6. Homebuild Industries Co., Ltd.

7. Jiangsu Chen Sheng Forestry Development Co., Ltd.

8. Jiangsu Wenfeng Wood Co., Ltd.

9. Jim Fine Wooden Products Co., Ltd.

10. Omni One Co., Limited

11. Perfect Window Fashions Co., Ltd.

12. Putian Yihong Wood Industry Co., Ltd.

13. Raoping HongRong Handicrafts Co., Ltd. (d.b.a. Chen Chui Global Corp.).

14. Sanming Lintong Trading Co., Ltd.

15. Shandong Miting Household Co., Ltd.

16. Shaxian Shiyiwood, Ltd.

17. Shuyang Kevin International Co., Ltd.

18. Suqian Sulu Import & Export Trading Co., Ltd.

19. Wuxi Boda Bamboo & Wood Industrial Co., Ltd

20. Zhangzhou Yihong Industrial Co., Ltd.

[FR Doc. 2025-10950 Filed 6-13-25; 8:45 am]

BILLING CODE 3510-DS-P